DEPARTMENT OF EDUCATION

[Docket No.: ED-2014-ICCD-0059]

Agency Information Collection Activities; Comment Request; Annual Progress Report for the Title III Alternative Financing Program Under the Assistive Technology Act of 1998

AGENCY: Office of Special Education and Rehabilitative Services (OSERS), Department of Education (ED).

ACTION: Notice

SUMMARY: In accordance with the Paperwork Reduction Act of 1995 (44 U.S.C. chapter 3501 et seq.), ED is proposing an extension of an existing information collection.

DATES: Interested persons are invited to submit comments on or before June 13, 2014.

ADDRESSES: Comments submitted in response to this notice should be submitted electronically through the Federal eRulemaking Portal at http://www.regulations.gov by selecting Docket ID number ED-2014-ICCD-0059 or via postal mail, commercial delivery, or hand delivery. If the regulations.gov site is not available to the public for any reason, ED will temporarily accept comments at ICDocketMgr@ed.gov. Please note that comments submitted by fax or email and those submitted after the comment period will not be accepted; ED will ONLY accept comments during the comment period in this mailbox when the regulations.gov site is not available. Written requests for information or comments submitted by postal mail or delivery should be addressed to the Director of the Information Collection Clearance Division, U.S. Department of Education, 400 Maryland Avenue SW., LBJ, Mailstop L-OM-2-2E319, Room 2E115, Washington, DC 20202.

FOR FURTHER INFORMATION CONTACT: For specific questions related to collection activities, please contact Robert Groenendaal, 202-245-7393 or Brian Bard, 202-245-7345.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Annual Progress Report for the Title III Alternative Financing Program Under the Assistive Technology Act of 1998.

OMB Control Number: 1820-0662.

Type of Review: An extension of an existing information collection.

Respondents/Affected Public: State, Local or Tribal Governments.

Total Estimated Number of Annual Responses: 33.

Total Estimated Number of Annual Burden Hours: 891.

Abstract: The Rehabilitation Services Administration (RSA) of the U.S. Department of Education (ED) requests clearance for the renewal of a data collection instrument, Office of Management and Budget (OMB) Control Number 1820-0662, to be completed by grantees under title III of the Assistive Technology Act of 1998 as in effect prior to the amendments of 2004 (Public Law 105-394) (AT Act of 1998). Title III of the AT Act of 1998 authorized grants to public agencies to support the establishment and maintenance of alternative financing programs (AFPs) that feature one or more alternative financing mechanisms to enable individuals with disabilities and their family members, guardians, advocates, and authorized representatives to purchase assistive technology (AT). AFPs must operate and provide progress reports in perpetuity. Since 2000, grants have been awarded to 33 states to operate AFPs. The information collected through this data collection instrument is necessary for these grantees to comply with the reporting requirements of title III of the AT Act of 1998 and to satisfy 34 CFR 75.720, which requires them to submit an annual performance report. In addition, section 307 of the AT Act of 1998 requires that RSA submit to Congress an annual report on the activities conducted under title III. In order to make these possible, states must provide annual progress reports to RSA that fulfill the section 307 reporting requirements. This data collection instrument has been developed to ensure that states report data in a consistent manner in alignment with these requirements.

Dated: April 8, 2014.
Tomakie Washington,
Acting Director, Information Collection Clearance Division, Privacy, Information and Records Management Services, Office of Management.

[FR Doc. 2014-08288 Filed 4-11-14; 8:45 am]

BILLING CODE 4000-01-P